DEPARTMENT OF HEALTH AND HUMAN SERVICES

Centers for Disease Control and Prevention

[60-Day-24-24FA; Docket No. CDC-2024-0032]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on an information collection project titled Human-Centered Design Effort on Bringing Guidelines to the Digital Age. This information collection will allow CDC to understand pain points in developing solutions that help develop and implement guidelines that leverage technology to improve patient care.

DATES: CDC must receive written comments on or before July 8, 2024.

ADDRESSES: You may submit comments, identified by Docket No. CDC-2024-0032 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Human-Centered Design Effort on Bringing Guidelines to the Digital Age—Existing Collection in Use Without an OMB Control Number—Office of Public Health Data, Surveillance, and Technology (OPHDST), Centers for Disease Control and Prevention (CDC).

Background and Brief Description

Given the increased demand to improve clinical guideline development and implementation, a new approach that began with an initiative on Adapting Clinical Guidelines for the Digital Age has been expanded by Guidelines International Network (GIN) North America to implement a future state of guideline development and implementation that leverages advancements in technology. To identify pain points in the process, CDC plans to engage individuals from multiple perspectives in guideline development and implementation in discussion. CDC requests approval for an Existing Collection in Use Without an OMB Control Number for a data collection titled Human-Centered Design Effort on Bringing Guidelines to the Digital Age.

CDC will use semi-structured interviews to collect data for this study. The interviews will explore insights about guideline development and implementation as well as pain points in this process. Data will be used to inform the structure of a human-centered design workshop where participants use the pain points identified as starting points for designing solutions. Burden estimates include the time for respondents to be participate in semi-structured interviews. CDC requests OMB approval for an estimated 33 annual burden hours. There is no cost to respondents other than their time to participate.

Estimated Annualized Burden Hours
Type of respondent | Form Name | Number of respondents | Number of responses per respondent | Average burden per response (in hours) | Total burden (in hours)
Clinicians | Clinician Conversation Guide | 5 | 1 | 1 | 5
EHR Vendors | EHR Vendor Conversation Guide | 2 | 1 | 1 | 2
Guideline Developers | Guideline Developer Conversation Guide | 8 | 1 | 1 | 8
Informaticists | Informaticist Conversation Guide | 4 | 1 | 1 | 4
Implementers | Implementer Conversation Guide | 9 | 1 | 1 | 9
Insurers | Insurer Conversation Guide | 1 | 1 | 1 | 1
Patient/Patient Advocate | Patient/Patient Advocate Conversation Guide | 4 | 1 | 1 | 4
Total |  |  |  |  | 33

Jeffrey M. Zirger,
Lead, Information Collection Review Office, Office of Public Health Ethics and Regulations, Office of Science, Centers for Disease Control and Prevention.

[FR Doc. 2024-09852 Filed 5-6-24; 8:45 am]

BILLING CODE 4163-18-P